DEPARTMENT OF ENERGY

Federal Energy Regulatory Commission

[Docket No. AD20-11-000]

Extension of Non-Statutory Deadlines; Supplemental Notice Waiving Regulations

On May 8, 2020, in response to emergency conditions caused by Novel Coronavirus Disease (COVID-19), the Secretary waived through September 1, 2020, the Commission's regulations that require that filings with the Commission be notarized or supported by sworn declarations.¹ On January 22, 2021, the Secretary extended this waiver through July 30, 2021.²

¹ See, e.g., 18 CFR 45.7 (2020) (requiring application for authority to hold interlocking positions to be verified under oath).

² Supplemental Notice Waiving Regulations, Extension of Non-Statutory Deadlines, Docket No. AD20-11-000 (Jan. 22, 2021) (January 2021 Notice).

The National Emergency continues.³ However, companies and individuals are returning to their workplaces or are determining how to permit a safe return to their workplaces in the coming months. Therefore, there is good cause to extend through and including January 1, 2022, waiver of the Commission's regulations that require that filings with the Commission be notarized or supported by sworn declarations as provided in the January 2021 Notice.⁴

³ A Letter on the Continuation of the National Emergency Concerning the Coronavirus Disease 2019 (COVID-19) Pandemic (Feb. 24, 2021), https://www.whitehouse.gov/briefing-room/statements-releases/2021/02/24/a-letter-on-the-continuation-of-the-national-emergency-concerning-the-coronavirus-disease-2019-covid-19-pandemic/.

⁴ The Commission concurrently is issuing an order in Docket No. EL20-37-000 granting blanket waiver of requirements to hold meetings in person and/or to provide or obtain notarized documents in open access transmission tariffs and other Commission-jurisdictional agreements through and including January 1, 2022.

Dated: July 26, 2021.
Kimberly D. Bose,
Secretary.

[FR Doc. 2021-16424 Filed 7-30-21; 8:45 am]

BILLING CODE 6717-01-P